DEPARTMENT OF HEALTH AND HUMAN SERVICES

Food and Drug Administration

Food and Drug Administration Drug Educational Forum; Public Workshop; Correction

AGENCY: Food and Drug Administration, HHS.

ACTION: Notice of public workshop; correction.

SUMMARY: The Food and Drug Administration (FDA) is correcting a notice that appeared in the Federal Register of February 3, 2005 (70 FR 5686). The document announced a public workshop. The document was published with a typographical error in the Supplementary Information section. This document corrects that error.

FOR FURTHER INFORMATION CONTACT: Joyce Strong, Office of Policy (HF-27), Food and Drug Administration, 5600 Fishers Lane, Rockville, MD 20857, 301-827-7010.

SUPPLEMENTARY INFORMATION: In FR Doc. 05-2098, appearing on page 5686, in the Federal Register of Thursday, February 3, 2005, the following correction is made:

1. On page 5687, in the second column, the fifth line from the bottom should read “abbreviated new drug applications (ANDAs)”.

Dated: February 8, 2005.
Jeffrey Shuren,
Assistant Commissioner for Policy.

[FR Doc. 05-2921 Filed 2-15-05; 8:45 am]

BILLING CODE 4160-01-S